DEPARTMENT OF HOMELAND SECURITY

U.S. Citizenship and Immigration Services

[CIS No. 2477-09; DHS Docket No. USCIS-2009-0019]

RIN 1615-ZA88

Request for Public Comment on the E-Verify Program Designated Agent Process

AGENCY: U.S. Citizenship and Immigration Services, DHS.

ACTION: Notice.

SUMMARY: U.S. Citizenship and Immigration Services (USCIS) seeks public comment on the E-Verify Program Designated Agent Process under which a participating employer may choose to outsource submission of employment eligibility verification queries for newly hired employees to a Designated Agent.

DATES: This Notice is effective June 23, 2009. Please submit your comments or suggestions for improving the Designated Agent process by August 24, 2009.

ADDRESSES: Please submit your written comments and suggestions by e-mail to DAsupport@dhs.gov and include “DA Re-Engineering Comment” in the subject line of your e-mail. When submitting your comments or suggestions, please let us know whether you access the E-Verify Program directly, or whether you developed and use a web services interface to access the E-Verify Program.

FOR FURTHER INFORMATION CONTACT: Cassandra Stekly, Department of Homeland Security, U.S. Citizenship and Immigration Services (USCIS), Verification Division, 470-490 East L'Enfant Plaza, SW., Suite 8001, Washington, DC 20529-2630; Telephone: (888) 464-4218.

SUPPLEMENTARY INFORMATION: The E-Verify Program is a free employment eligibility confirmation system operated jointly by USCIS and the Social Security Administration (SSA). It is designed to determine the employment eligibility of new hires. The E-Verify Program allows participating employers to electronically confirm the employment eligibility of newly hired employees to help maintain a stable and legal workforce.

An E-Verify Designated Agent is a liaison between E-Verify and employers who choose to outsource submission of employment eligibility verification queries for newly hired employees. E-Verify Designated Agents conduct the verification process for other employers or clients. An E-Verify Designated Agent must register online and sign a Memorandum of Understanding (MOU) with SSA and DHS. Once the MOU is approved, the E-Verify Designated Agent can then begin registering employers and clients who have designated it to perform their verification services.

The program design for Designated Agents has changed very little over the past several years. Accordingly, USCIS plans to review the Designated Agent process to assess how Designated Agents provide this service to their clients. The purpose of this notice is to request that Designated Agents, their clients, or others with Designated Agent experience provide their comments or suggestions for improving the Designated Agent process.

Paperwork Reduction Act

The E-Verify Program has been approved by the Office of Management and Budget under the Paperwork Reduction Act. The approved OMB Control Number is 1615-0092.

Michael Aytes,
Acting Deputy Director, U.S. Citizenship and Immigration Services.

[FR Doc. E9-14641 Filed 6-22-09; 8:45 am]

BILLING CODE 9111-97-P